DEPARTMENT OF THE INTERIOR

Minerals Management Service

Agency Information Collection Activities: Submission for Office of Management and Budget (OMB) Review; Comment Request

Correction

In notice document 00-10711 beginning on page 25495 in the issue of Tuesday, May 2, 2000, make the following corrections:

1. On page 25495, in the second column, under “DATE”, “July 3, 2000” should read “June 3, 2000”.

2. On page 25496, in the second column, five lines from the bottom, “July 3, 2000” should read “June 3, 2000”.

[FR Doc. C0-10711 Filed 5-5-00; 8:45 am]

BILLING CODE 1505-01-D

DEPARTMENT OF LABOR

Occupational Safety and Health Administration

[Docket No. ICR-99-28]

Agency Information Collection Activities; Announcement on OMB Approval

Correction

In notice document 00-10380 appearing on page 24512 in the issue of Wednesday, April 26, 2000, make the following corrections:

1. On page 24512, in the second column, the document heading is corrected to read as set forth above.

2. On the same page, in the thrid column, in the first line, “ 20 CFR” should read, “29 CFR”.

[FR Doc. C0-10380 Filed 5-5-00; 8:45 am]

BILLING CODE 1505-01-D